DEPARTMENT OF ENERGY

Federal Energy Regulatory Commission

[Project No. 14787-004]

Black Canyon Hydro, LLC; Notice of Revised Schedule for the Seminoe Pumped Storage Project

This notice revises the Federal Energy Regulatory Commission's (Commission) schedule for processing Black Canyon Hydro, LLC's license application for the Seminoe Pumped Storage Project. A prior notice issued on July 10, 2023, identified an anticipated schedule for issuance of draft and final National Environmental Policy Act (NEPA) documents and a final order for the project. After the issuance of that notice, Black Canyon Hydro, LLC requested an extension of time to complete additional studies with a final study report to be filed by September 30, 2024. Commission staff issued a letter approving the extension of time on October 31, 2023. To account for the additional time needed for Black Canyon Hydro, LLC to complete the studies and file the study reports, the application will be processed according to the following revised schedule.

Notice of Ready for Environmental Analysis: December 2024

Draft NEPA Document: August 2025

Final NEPA Document: March 13, 2026

In addition, in accordance with title 41 of the Fixing America's Surface Transportation Act, enacted on December 4, 2015, agencies are to publish completion dates for all federal environmental reviews and authorizations. This notice identifies the Commission's anticipated schedule for issuance of the final order for the project, which is based on the revised issuance date for the final NEPA document. Accordingly, we currently anticipate issuing a final order for the project no later than:

Issuance of Final Order: June 18, 2026

If a schedule change becomes necessary, an additional notice will be provided so that interested parties and government agencies are kept informed of the project's progress.

Dated: January 10, 2024.
Debbie-Anne A. Reese,
Acting Secretary.

[FR Doc. 2024-00767 Filed 1-16-24; 8:45 am]

BILLING CODE 6717-01-P